DEPARTMENT OF ENERGY

Federal Energy Regulatory Commission

[Docket No. ER04-928-000]

California Independent System Operator Corporation; Notice of Availability of Filing Instructions and Summary Template

July 15, 2004.

1. Pursuant to the Commission's June 17, 2004 Order in the above captioned proceeding, the Commission staff is hereby making available for parties' use instructions for filing information on Existing Transmission Contracts (ETCs).¹ This optional template for filing ETC information is available with this notice and on http://www.ferc.gov under “What's New.”

¹ Calfiornia Independent System Operator Corporation, 107 FERC ¶ 61,274 (2004) (June 17 Order).

2. Parties should review the instructions for the template before using it. Summary ETC information should be submitted using the Commission's electronic filing system (eFiling link at http://www.ferc.gov). Parties filing supplemental information should also use the eFiling system, provided the material is not restricted from publication and meets the maximum file number and file size restrictions for electronic filing.

3. All submissions are due by 5 p.m. eastern time on July 23, 2004.²

² This date was clarified by an Errata Notice issued on July 13, 2004, in this proceeding.

Magalie R. Salas,
Secretary.

Instructions to All Parties for Filing Information on Existing Transmission Contracts Pursuant to the Commission's June 17, 2004 Order in Docket No. ER04-928-000

These instructions apply to all parties to Existing Transmission Contracts (ETCs) when making summary filings as required by the Commission's June 17 Order. These instructions include procedures for parties to submit: (1) Summary information using the Commission's pro forma template and (2) supplemental information. These instructions should be followed precisely.

All persons submitting information not restricted from publication must do so using the Commission's electronic filing system.

• If you do not already have an eRegistration account, you must create one before you can submit an electronic filing. Before you can use the account, you must validate the e-mail address by clicking on the link in the e-mail that you will receive after you submit the eRegistration account information.

• The eFiling system can only accept 10 files per session with a maximum file size of 10 Mb for each file. Use multiple sessions if you have more than 10 files; documents larger than 10 Mb must be submitted on CD ROM.

• File names are limited to 25 characters, including the file extension, but not including the directory path. All file names should contain only letters, numbers, and the underscore symbol. Do NOT use spaces, hyphens, ampersands, or other special characters.

• Privileged material must be submitted on CD ROM and paper. The eFiling system can only accept Public documents.

Composing Summary Filings (Templates)

Summary filings should be submitted using the Commission's template created for this purpose and by using the eFiling system at http://www.ferc.gov. Parties should submit a separate template for each ETC. Download the Excel template posted on the FERC Web site at http://www.ferc.gov under “What's New”, and copy and save the template under a unique file name for each ETC reported.

The following list describes the step-by-step instructions for completing the template for each ETC.

Item 1. Insert the name of the entity responsible under the contract for scheduling the contract.

Item 2. Insert the type of agreement, e.g., point to point, system integration.

Item 3. Insert the source point(s) applicable to the ETC.

Item 4. Insert the sink point(s) applicable to the ETC.

Item 5. Insert the maximum number of megawatts transmitted pursuant to the ETC for each set of source and sink points.

Item 6. Check the appropriate entry to indicate whether any modification of the ETC is subject to a “just and reasonable” standard of review or a Mobile-Sierra “public interest” standard of review. Select “mixed” if some provisions of the existing transmission contract are subject to Mobile-Sierra and some provisions are subject to the “just and reasonable” standard. If mixed, provide supplemental information in a separate file.

Item 7. Insert the contract termination date.

Item 8. Insert the FERC designation for the contract, if applicable.

Item 9. Insert the contract identifier or designation commonly used to refer to the contract.

Item 10. Indicate whether this is a firm contract (Yes/No/Undetermined). If undetermined, provide supplemental information.

Item 11. Identify the filing party.

Item 12. Specify the names of the other one or more parties to the ETC.

Item 13. Enter the date you are submitting the contract information to FERC.

Save the file (25 character limit, including the extension; do not use spaces, hyphens, or special characters other than an underscore in the file name).

Submitting Summary Filings and Any Supplemental Information (Use FERC's Electronic Filing System if All Documents Are Public)

1. Go to http://www.ferc.gov and select the eFiling link.

2. Log in with your e-mail address and password.

3. Select the filing type “Production of Document.”

4. Select the signer and organization you are filing on behalf of if different from the login account information. If there are multiple parties, you will add that information in Step 6.

5. On the Docket screen, enter ER04-928, click on Query, and select ER04-928-000.

6. At the Submission Description screen, please amend the default description as follows (255-character limit): Amend the default description to read: “Summary Filing for ETC [contract designation] between [filing party] and [other party(ies) names] in Docket No. ER04-928, et al.” Use abbreviations or acronyms for party names, if necessary, to stay within the 255 character limit.

7. On the File Upload screen, click on Browse; in the Choose File box, locate and highlight the summary Excel file, then click on Open; the directory string and file name will be added to the Select File box—do not make changes to the directory string and file name at this point.

8. There is an optional description field to provide more detail about the file.

9. Click on Attach—the file appears in a table below the Attach icon.

10. Repeat the process if you need to select additional files (max of 10 files—use another eFiling session if you have more than 10 files to submit; for multiple sessions, indicate Part 1, Part 2, etc. in the description). Attach files in order, or use the Up/Down keys to revise the order after selection.

11. After attaching all files, click on Submit Files.

12. On the Confirmation screen, click on Done to complete the transaction.

13. You will receive conformation e-mails for your submission.

Filing Privileged Material or Documents That Exceed eFiling File Size Limits

Supplemental information containing privileged material should be filed on CD ROM with a separate CD ROM, paper original, and two paper copies for both the privileged material (complete filing) and the redacted public version. Use the same procedure if any supplemental information files exceed 10 Mb.

Use the following description in the cover letter: “Supplemental Information for ETC [contract designation] between [filing party] and [other party(ies) names] in Docket No. ER04-928, et al.”

Mark or stamp the original and two paper copies of the public material as “Public”. Mark or stamp the original and two paper copies of the privileged material as “Privileged” or “Non-Public.”

Label each CD with the Party Name, the title or description of the contents, and the security access level of the CD—Public or Privileged.

The media and paper copies should be delivered to the Federal Energy Regulatory Commission, Room 1A, 888 First Street, NE., Washington, DC 20426.

Help Resources

Content of Summary Filings: (202) 502-6822.

Template (copying/saving/using): (202) 502-8426.

e-Filing Assistance/Problems: FERCOnlineSupport@ferc.gov, or call (202) 502-6652 or 1 (866) 208-3676 (toll free).

[FR Doc. E4-1628 Filed 7-21-04; 8:45 am]

BILLING CODE 6717-01-P